FEDERAL COMMUNICATIONS COMMISSION

47 CFR Part 73

[DA 00-2710; MM Docket No. 98-29; RM-9190, RM-9275]

Radio Broadcasting Services; Indian Wells, Indio, CA

AGENCY: Federal Communications Commission.

ACTION: Final rule.

SUMMARY: The Commission, at the request of Professional Broadcasting, Inc. allots Channel 238A at Indian Wells, California, as the community's first local aural transmission service. See 63 FR 12426 (March 13, 1998). The Commission considers comparatively and denies a petition filed by Elia Tawil proposing to allot Channel 238A at Indio, California, as the community's fourth aural transmission service, and to reserve the channel as a noncommercial educational channel. It also dismisses as technically and procedurally defective a pleading filed by Playa Del Sol Broadcasters, permittee of an unbuilt station on Channel 249A in Mecca, California, requesting the allotment of Channel 238A at Mecca, California, reallotment of Channel 249A from Mecca to Indian Wells, California, and modification of its permit for unbuilt station in Mecca to reflect the new community. Channel 238A can be allotted to Indian Wells in compliance with the Commission's minimum distance separation requirements, with respect to domestic allotments, at a site 6 kilometers (3.7 miles) east, at coordinates 33-42-04 North Latitude and 116-14-47 West Longitude. A filing window for Channel 238A at Indian Wells, California, will not be opened at this time. Instead, the issue of opening filing windows for this channel will be addressed by the Commission in a subsequent Order. With this Order, this proceeding is terminated.

DATES: Effective January 22, 2000.

FOR FURTHER INFORMATION CONTACT: Victoria M. McCauley, Mass Media Bureau, (202) 418-2180.

SUPPLEMENTARY INFORMATION: This is a synopsis of the Commission's Report and Order, MM Docket No. 98-29, adopted November 22, 2000, and released December 1, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b) the FM Table of Allotments under California is amended by adding Indian Wells, Channel 238A.

Federal Communications Commission.
John A. Karousos,
Chief, Allocations Branch, Policy and Rules Division, Mass Media Bureau.

[FR Doc. 00-32330 Filed 12-20-00; 8:45 am]

BILLING CODE 6712-01-P